COMMITTEE FOR PURCHASE FROM PEOPLE WHO ARE BLIND OR SEVERELY DISABLED

Procurement List; Addition and Deletions

AGENCY: Committee for Purchase From People Who Are Blind or Severely Disabled.

ACTION: Addition to and Deletions from the Procurement List.

SUMMARY: This action adds a service to the Procurement List that will be furnished by the nonprofit agency employing persons who are blind or have other severe disabilities, and deletes products and services from the Procurement List previously furnished by such agencies.

DATES: Effective January 15, 2017.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Addition

On 11/10/2016 (81 FR 78996-78997), the Committee for Purchase From People Who Are Blind or Severely Disabled published notice of proposed addition to the Procurement List.

After consideration of the material presented to it concerning capability of qualified nonprofit agency to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing small entities to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Custodial Service

Service Mandatory For: U.S. Army, U.S. Military Academy, First Class Club and Grant Hall, West Point, NY

Mandatory Source(s) of Supply: Access: Supports for Living Inc., Middletown, NY

Contracting Activity: Dept. of the Army, W6QM MICC-West Point

Deletions

On 11/10/2016 (81 FR 78996-78997), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s): 7520-00-282-2137—Trimmer, Paper 7520-00-224-7621—Trimmer, Paper, Drop Knife, Beige, 24″ x 24″

Mandatory Source(s) of Supply: The Lighthouse for the Blind, Inc. (Seattle Lighthouse), Seattle, WA.

Contracting Activity: General Services Administration, New York, NY.

NSN(s)—Product Name(s): 7195-01-484-0017—Bulletin Board, Granite Finish, 36″ x 24″, Aluminum Frame.

Mandatory Source(s) of Supply: The Lighthouse for the Blind, Inc. (Seattle Lighthouse), Seattle, WA.

Contracting Activities: Department of Veterans Affairs, Strategic Acquisition Center General Services Administration, Philadelphia, PA.

Services

Service Type: Document Destruction Service

Mandatory for: Internal Revenue Service Offices at the following locations:

Service Locations:

2628 S. Cherry Avenue, Fresno, CA

5104 N. Blyth, Fresno, CA

890 West Ashlan, Fresno, CA

1728 Van Ness, Fresno, CA

Cross Point Tower One: 900 Chelmsford Street, Lowell, MA

53 North Sixth Street, New Bedford, MA

921 N. Nova Boulevard, Holly Hill, FL

675 W. Moana Lane, Reno, NV

Jackson: 234 Louis Glick Hwy, Jackson, MI

2628 S. Cherry Avenue, Fresno, CA

5104 N. Blyth, Fresno, CA

890 West Ashlan, Fresno, CA

1728 Van Ness, Fresno, CA

Mobile: 1110 Montlimar Dr., Mobile, AL

One Pensacola Plaza: 125 W Romana Street, Pensacola, FL

Springfield: 3333 S. National Ave, Springfield, MO

El Dorado: 1115 North Madison Ave, El Dorado, AR

Pine Bluff: 100 East 8th Ave, Pine Bluff, AR

Effingham: 405 South Banker Street, Effingham, IL

Indy Bldg: 7525 East 39th Street, Indianapolis, IN

Evansville: 7409 Eagle Crest Blvd., Evansville, IN

7 East Ohio Street, Rm 442, Indianapolis, IN

Creekside IV: 12 Cadillac Dr., Ste 400, Brentwood, TN

Defiance: 208 Perry St, Defiance, OH

Lorain: 300 Broadway, Lorain, OH

Painesville: 8 North State Street, Painesville, OH

Steubenville: 500 Market Street, Steubenville, OH

Warrendale: 547 Keystone Drive, Warrendale, PA

11620 Caroline Road, Philadelphia, PA

9815 B Roosevelt Blvd., Philadelphia, PA

Greensboro: 2303 W Meadowview Road, Greensboro, NC

Winston Salem: 251 N Main Street, Winston Salem, NC

201 Como Park Blvd., Cheektowaga, NY

1314 Griswald Plaza, Erie, PA

7th & State Street, Erie, PA

101 Park Deville Drive, Columbia, MO

919 Jackson Street, Chillicothe, MO

3702 W. Truman Blvd., Suite 113, Jefferson City, MO

Mission: 5799 Broadmoor St., Mission, KS

Chillicothe: 1534 North Bridge St., Chillicothe, OH

The Plains: 70 N. Plains Road, The Plains, OH

Zanesville: 710 Main St., Zanesville, OH

11 South 12th Street, Richmond, VA

600 Main Street, Richmond, VA

6021 Durand Avenue, Suite 600, Racine, WI

Janesville: 20 E Milwaukee St., Ste. 204, Janesville, WI

Sheboygan: 2108 Kohler Memorial Dr., Sheboygan, WI

2201 Cantu Court, Sarasota, FL

300 Lock Road, Deerfield Beach, FL

Multiple Locations, Chicago, IL

Grand Rapids: 678 Front Street NW., Grand Rapids, MI

Portage: 8075 Creekside Drive, Portage, MI

South Bend: One Michiana Square, South Bend, IN

Benton Harbor: 777 Riverview Drive, Benton Harbor, MI

Corporate Plaza 1: 8100 Corporate Drive, Hyattsville, MD

Customer Service Site: 120 Charles Street, Baltimore, MD

10 Metrotech Center, New York, NY

10 Richmond Terrace, New York, NY

107 Charles Lindbergh Blvd., Garden City, NY

30 Montgomery Street, Jersey City, NJ

518A East Main Street, Riverhead, NY

Beaufort: 1212 Charles Street, Beaufort, SC

Mandatory Source(s) of Supply:

Prime Contractor: SourceAmerica

Subcontractors:

AccessPoint RI, Cranston, RI

Challenge Enterprises of North Florida, Inc., Green Cove Springs, FL

Beacon Group, Inc., Tucson, AZ

Community Enterprises of St. Clair County, Port Huron, MI

The ARC Fresno/Madera Counties, Fresno, CA

Wiregrass Rehabilitation Center, Inc., Dothan, AL

United Cerebral Palsy of Central Arkansas Little Rock, AR

United Cerebral Palsy of the Land of Lincoln, Springfield, IL

Shares Inc., Shelbyville, IN

Weaver Industries, Inc., Akron, OH

The Orange Grove Center, Inc., Chattanooga, TN

Opportunity Center, Incorporated, Wilmington, DE

OE Enterprises, Inc., Hillsborough, NC

Lifetime Assistance, Inc., Rochester, NY

JobOne, Independence, MO

Greene, Inc., Xenia, OH

Goodwill Services, Inc., Richmond, VA

Goodwill Industries of Southeastern Wisconsin, Milwaukee, WI

Goodwill Industries of South Florida, Miami, FL

Glenkirk, Northbrook, IL

Gateway, Berrien Springs, MI

Athelas Institute, Inc., Hyattsville, MD

NYSARC, Inc., NYC Chapter, New York, NY

Florence County Disabilities and Special Needs Board, Florence, SC

Contracting Activity: Dept. of the Treasury/Internal Revenue Service, Washington, DC

Barry S. Lineback,
Director, Business Operations.

[FR Doc. 2016-30348 Filed 12-15-16; 8:45 am]

BILLING CODE 6353-01-P